DEPARTMENT OF THE INTERIOR

Bureau of Land Management

[LLCON040000-L14300000-EU0000; COC-07446101]

Notice of Realty Action: Recreation and Public Purposes Act Classification and Conveyance of Public Lands in Garfield County, CO

AGENCY: Bureau of Land Management, Interior.

ACTION: Notice of realty Action.

SUMMARY: The Bureau of Land Management (BLM), Colorado River Valley Field Office, examined approximately 62.5 acres of public land in Garfield County, Colorado, and found the land suitable for classification for conveyance under the provisions of the Recreation and Public Purposes Act (R&PP). The City of Glenwood Springs proposes to use the land to expand its existing South Canyon Landfill.

DATES: Interested parties may submit written comments regarding the proposed conveyance or classification on or before July 18, 2011.

ADDRESSES: Comments should be sent to Steve Bennett, Field Manager, BLM Colorado River Valley Field Office, 2300 River Frontage Road, Silt, Colorado 81652.

FOR FURTHER INFORMATION CONTACT: Carole Huey, Realty Specialist, at the address above or by telephone at (970) 876-9023 or e-mail chuey@blm.gov.

SUPPLEMENTARY INFORMATION: The BLM examined and found the following public land in Garfield County, Colorado, suitable for classification for conveyance to the City of Glenwood Springs under the provisions of the R&PP Act, as amended (43 U.S.C. 869 et seq.), and the Taylor Grazing Act, 43 U.S.C. 315(f) (classification) and Executive Order No. 6910:

Sixth Principal Meridian

T. 6 S., R. 90 W.

Sec. 3, NE¼NE¼NE¼SW¼, S½NE¼NE¼SW¼, SE¼NW¼NE¼SW¼, S½NE¼SW¼, W½SW¼NE¼SE¼, W½NW¼NW¼SE¼, SE¼NW¼NW¼SE¼, and S½NW¼SE¼.

The area described contains approximately 62.5 acres in Garfield County.

The land is not needed for any Federal purpose. The conveyance is consistent with the BLM Glenwood Springs Record of Decision and Approved Resource Management Plan dated January 1984, which was revised in 1988, and would be in the public interest.

In accordance with the R&PP Act, the City of Glenwood Springs filed an R&PP application to develop the above described land as an expansion of its South Canyon Landfill.

The City of Glenwood Springs submitted a statement in compliance with the regulations (43 CFR 2741.4(b)) implementing the R&PP Act. The City of Glenwood Springs proposes to use the land to expand its existing landfill. Transferring 62.5 acres under the R&PP Act would allow the City to conform to the State of Colorado's Hazardous Materials and Waste Management Division under Subtitle D. In addition, the City of Glenwood Springs would have full control of surface water on the expanded South Canyon site. The proposed expansion would extend the life of South Canyon Landfill by 20 to 25 years in a cost effective manner.

The conveyance, if issued, will be subject to the provisions of the R&PP Act and applicable regulations, including, but not limited to, 43 CFR Part 2743, and will be subject to the following terms, conditions, and reservations to the United States:

1. A reservation to the United States for ditches or canals constructed by the authority of the United States pursuant to the Act of August 30, 1890 (43 U.S.C. 945).

2. Provisions of the R&PP Act and to all applicable regulations.

3. All minerals shall be reserved to the United States, together with the right to prospect for, mine and remove such deposits from the same under applicable law, along with all necessary access and exit rights.

4. A right-of-way, across the above-described lands, for a road granted to Telecom Towers LLP, its successors or assigns, by right-of-way COC-61885 pursuant to the Act of October 21, 1976 (31 Stat. 0790, 43 U.S.C. 959).

5. Any other valid rights-of-way that may exist at the time of conveyance.

6. All valid existing rights documented on the official public land records at the time of patent issuance.

An indemnification clause protecting the United States from claims arising out of the lessee's/patentee's use, occupancy, or operations on the land.

Pursuant to the requirements established by section 120(h) of the Comprehensive Environmental Response, Compensation and Liability Act. 9620(h), as amended by the Superfund Amendments and Reauthorization Act of 1988, (100 Stat. 1670), notice is hereby given that the above-described parcel has been examined and no evidence was found to indicate that any hazardous substances have been stored for 1 year or more, nor had any hazardous substances been disposed of or released on the subject property.

A limited reversionary provision states that the title shall revert to the United States upon a finding, after notice and opportunity for a hearing, that the patentee has not substantially developed the land in accordance with the approved plan of development within 5 years after the date of conveyance. No portion of the land will under any circumstances revert to the United States if any such portion has been used for solid waste disposal or any other purpose which may result in the disposal, placement, or release of any hazardous substance. Upon publication of this notice in the Federal Register, the parcel will be segregated from all other forms of appropriation under the public land laws, including the United States general mining laws, except for conveyance under the R&PP Act, leasing under the mineral leasing laws, and disposals under the mineral material disposal laws.

Interested persons may submit comments involving the suitability of the land for development as an expansion of the existing City of Glenwood Springs South Canyon Landfill. Comments on the classification are restricted to whether the land is physically suited for the proposal, whether the use will maximize the future use or uses of the land, whether the use is consistent with local planning and zoning, or whether the use is consistent with state and Federal programs. Interested persons may submit comments, including notification of any encumbrances or other claims relating to the parcel, regarding the specific use proposed in the application and plan of development, whether the BLM followed appropriate administrative procedures in reaching the decision to convey under the R&PP Act, or any other factors not directly related to the suitability of the land for landfill purposes.

Any adverse comments will be reviewed by the BLM Colorado State Director. In the absence of any adverse comments, this realty action will become effective on August 1, 2011. The land will not be offered for conveyance until after the classification becomes effective.

Only written comments submitted by postal service or overnight mail to the BLM Colorado River Valley Field Office will be considered properly filed. E-mail, facsimile, or telephone comments will not be considered properly filed. Documents related to this action are on file at the BLM Colorado River Valley Field Office at the address above and may be reviewed by the public at their request.

Before including your address, phone number, e-mail address, or other personal identifying information in your comment, you should be aware that your entire comment—including your personal identifying information—may be made publicly available at any time. While you can ask us in your comment to withhold your personal identifying information from public review, we cannot guarantee that we will be able to do so.

The land will not be available for conveyance until after the classification becomes effective, and until a determination of significance and decision record are signed for the completed Environmental Assessment.

Authority: 43 CFR 2741.5.

Helen M. Hankins,
State Director.

[FR Doc. 2011-13722 Filed 6-1-11; 8:45 am]

BILLING CODE 4310-JB-P